ENVIRONMENTAL PROTECTION AGENCY

[OPP-2004-0232; FRL-7371-1]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April 1, 2004 to June 30, 2004 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2004-0232. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 South Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arkansas

State Plant Board

Crisis: On May 11, 2004, for the use of diuron on catfish to control blue green algae. This program is expected to end on December 31, 2004. Contact: (Libby Pemberton)

On June 3, 2004, for the use of sodium chlorate on wheat as a harvest aid. This program ended on June 17, 2004. Contact: (Libby Pemberton)

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of fomesafen on snap beans to control pigweed and morningglory; April 13, 2004 to September 15, 2004. Contact: (Andrew Ertman)

EPA authorized the use of bifenthrin on sweet potatoes to control beetle complex; April 29, 2004 to November 30, 2004. Contact: (Stacey Groce)

EPA authorized the use of spinosad on pastureland and rangeland to control armyworms and grasshoppers; August 15, 2004 to December 31, 2004. Contact: (Andrew Ertman)

EPA authorized the use of diuron on catfish to control blue green algae; June 28, 2004 to November 30, 2004. Contact: (Libby Pemberton)

California

Environmental Protection Agency, Department of Pesticide Regulation

Specific: EPA authorized the use of abamectin on basil to control leafminers; May 27, 2004 to October 30, 2004. Contact: (Libby Pemberton)

EPA authorized the use of myclobutanil on peppers to control powdery mildew; June 10, 2004 to May 31, 2005. Contact: (Stacey Groce)

EPA authorized the use of myclobutanil on artichokes to control powdery mildew; June 23, 2004 to August 18, 2005. Contact: (Stacey Groce)

EPA authorized the use of fludioxonil on pomegranates to control gray mold; August 1, 2004 to December 15, 2004. Contact: (Andrew Ertman)

Colorado

Department of Agriculture

Crisis: On June 21, 2004, for the use of fluroxypyr on onions to control volunteer potatoes. This program ended on July 21, 2004. Contact: (Stacey Groce)

Specific: EPA authorized the use of fomesafen on dry beans to control kochia and waterhemp; May 30, 2004 to July 15, 2004. Contact: (Andrew Ertman)

Connecticut

Department of Environmental Protection

Specific: EPA authorized the use of azoxystrobin on tobacco to control metalaxyl-resistant blue mold; May 20, 2004 to December 31, 2004. Contact: (Libby Pemberton)

Delaware

Department of Agriculture

Denial: On April 28, 2004, EPA denied the use of fipronil on potatoes to control wireworms. This request was denied based on the determination that the situation as described in the application does not meet the criteria for an emergency since growers are not likely to experience significant economic losses from wireworm infestations. Further, the Agency also believes that the use of fipronil will not improve the economic conditions facing potato growers because fipronil's performance against wireworms is just as erratic as the registered alternatives and its use will not result in any improvement in yield or quality. Contact: (Barbara Madden).

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of fomesafen on snap beans to control weeds; May 1, 2004 to October 1, 2004. Contact: (Andrew Ertman)

Florida

Department of Agriculture and Consumer Services

Specific: EPA authorized the use of carfentrazone-ethyl on fruiting vegetables (except cucurbits) to control paraquat resistant nightshade, purslane, and morningglory; June 16, 2004 to May 31, 2005. Contact: (Andrew Ertman)

Georgia

Department of Agriculture

Specific: EPA authorized the use of thymol on beehives to control varroa mite; April 13, 2004 to November 8, 2004. Contact: (Stacey Groce)

Idaho

Department of Agriculture

Crisis: On May 3, 2004, for the use of diflubenzuron on alfalfa to control Mormon cricket and grasshoppers. This program is expected to end on October 31, 2004. Contact: (Libby Pemberton)

On June 8, 2004, for the use of diflubenzuron on barley and wheat to control Mormon cricket and grasshoppers. This program ended on July 14, 2004. Contact: (Libby Pemberton)

EPA authorized the use of spinosad on onions to control thrips; June 29, 2004 to August 31, 2004. Contact: (Andrew Ertman)

Specific: EPA authorized the use of dimethenamid-p on sugar beets to control hairy nightshade, redroot pigweed and yellow nutsedge; April 28, 2004 to July 15, 2004. Contact: (Barbara Madden)

EPA authorized the use of fenpyroximate on hops to control mites; June 9, 2004 to September 15, 2004. Contact: (Libby Pemberton)

Illinois

Department of Agriculture

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of tebuconazole on wheat to control Fusarium head blight; April 15, 2004 to May 31, 2004. Contact: (Libby Pemberton)

EPA authorized the use of fomesafen on snap beans to control weeds; May 5, 2004 to August 31, 2004. Contact: (Andrew Ertman)

Indiana

Office of Indiana State Chemist

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of tebuconazole on wheat to control Fusarium head blight; April 15, 2004 to June 30, 2004. Contact: (Libby Pemberton)

EPA authorized the use of fomesafen on snap beans to control broadleaf weeds; June 21, 2004 to September 1, 2004. Contact: (Andrew Ertman)

EPA authorized the use of fenbuconazole on blueberries to control mummyberry disease; April 28, 2004 to July 31, 2004. Contact: (Barbara Madden)

EPA authorized the use of thiophanate-methyl on blueberries to control fungal disease; May 4, 2004 to September 30, 2004. Contact: (Andrew Ertman)

Iowa

Department of Agriculture and Land Stewardship

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of fomesafen on dry beans to control broadleaf weeds; June 1, 2004 to July 15, 2004. Contact: (Andrew Ertman)

Kansas

Department of Agriculture

Specific: EPA authorized the use of tebuconazole on sunflowers to control rust; May 3, 2004 to September 15, 2004. Contact: (Stacey Groce)

EPA authorized the use of propiconazole on sorghum to control sorghum ergot; June 28, 2004 to June 28, 2005. Contact: (Libby Pemberton)

EPA authorized the use of thymol in beehives to control varroa mites; June 21, 2004 to November 8, 2004. Contact: (Stacey Groce)

Kentucky

Department of Agriculture

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of tebuconazole on wheat to control Fusarium head blight; April 15, 2004 to May 20, 2004. Contact: (Libby Pemberton)

Louisiana

Department of Agriculture and Forestry

Crisis: On May 7, 2004, for the use of flumioxazin on sweet potatoes to control annual broadleaf weeds. This program ended on July 15, 2004. Contact: (Libby Pemberton)

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of flumioxazin on sweet potatoes to control annual broadleaf weeds; May 13, 2004 to July 31, 2004. Contact: (Libby Pemberton)

EPA authorized the use of bifenthrin on sweet potatoes to control beetle complex; May 20, 2004 to November 30, 2004. Contact: (Stacey Groce)

Maine

Department of Agriculture, Food, and Rural Resources

Specific: EPA authorized the use of thymol in beehives to control varroa mite; April 13, 2004 to November 8, 2004. Contact: (Stacey Groce)

EPA authorized the use of coumaphos in beehives to control varroa mites and small hive beetles; April 14, 2004 to February 1, 2005. Contact: (Barbara Madden)

EPA authorized the use of fomesafen on dry beans to control broadleaf weeds; May 15, 2004 to July 15, 2004. Contact: (Andrew Ertman)

Maryland

Department of Agriculture

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of fomesafen on snap beans to control broadleaf weeds; June 1, 2004 to September 15, 2004. Contact: (Andrew Ertman)

Massachusetts

Massachusetts Department of Food and Agriculture

Specific: EPA authorized the use of indoxacarb on cranberries to control cranberry weevil; April 6, 2004 to August 1, 2004. Contact: (Barbara Madden)

EPA authorized the use of azoxystrobin on tobacco to control metalaxyl-resistant blue mold; May 20, 2004 to December 31, 2004. Contact: (Libby Pemberton)

Michigan

Michigan Department of Agriculture

Crisis: On May 14, 2004, for the use of chlorothalonil on ginseng to control botrytis blight and alternaria leaf and stem blight. This program is expected to end on September 30, 2004. Contact: (Stacey Groce)

Specific: EPA authorized the use of tebuconazole on wheat to control Fusarium head blight; April 15, 2004 to June 25, 2004. Contact: (Libby Pemberton)

EPA authorized the use of mancozeb on ginseng to control alternaria stem and leaf blight and phytophthora leaf blight; April 30, 2004 to October 15, 2004. Contact: (Stacey Groce)

EPA authorized the use of tebuconazole on asparagus to control rust; May 1, 2004 to November 1, 2004. Contact: (Barbara Madden)

EPA authorized the use of tetraconazole on sugar beets to control Cercospora leafspot; May 4, 2004 to September 30, 2004. Contact: (Stacey Groce)

EPA authorized the use of zoxamide on ginseng to control phytophthora leaf blight; May 12, 2004 to October 31, 2004. Contact: (Stacey Groce)

EPA authorized the use of fomesafen on snap beans to control black nightshade and common ragweed; May 15, 2004 to August 30, 2004. Contact: (Andrew Ertman)

EPA authorized the use of fomesafen on dry beans to control black nightshade and common ragweed; June 1, 2004 to August 15, 2004. Contact: (Andrew Ertman)

EPA authorized the use of sulfentrazone on strawberries to control broadleaf weeds; June 25, 2004 to December 15, 2004. Contact: (Andrew Ertman)

EPA authorized the use of dimethenamid-p on dry bulb onions to control yellow nutsedge; May 3, 2004 to July 30, 2004. Contact: (Barbara Madden)

Minnesota

Department of Agriculture

Quarantine: EPA authorized the use of propiconazole on soybeans to control soybean rust; from the detection of soybean rust in the continental United States, to March 1, 2007. Contact: (Andrew Ertman)

Specific: EPA authorized the use of fomesafen on dry beans to control common ragweed, waterhemp, ALS-resistant eastern black nightshade;May 1, 2004 to August 15, 2004. Contact: (Andrew Ertman)

EPA authorized the use of tebuconazole on barley and wheat to control Fusarium head blight; April 15, 2004 to September 1, 2004. Contact: (Libby Pemberton)

Mississippi

Department of Agriculture and Commerce

Crisis: On June 8, 2004, for the use of halosulfuron-methyl on sweet potatoes to control nutsedge and various pigweeds. This program is expected to end on August 15, 2004. Contact: (Stacey Groce)

Specific: EPA authorized the use of fenbuconazole on blueberries to control mummyberry disease; April 13, 2004 to August 31, 2004. Contact: (Barbara Madden)

EPA authorized the use of flumioxazin on sweet potatoes to control annual broadleaf weeds; May 13, 2004 to July 31, 2004. Contact: (Libby Pemberton)

EPA authorized the use of bifenthrin on sweet potatoes to control beetle complex; April 29, 2004 to September 30, 2004. Contact: (Stacey Groce)

EPA authorized the use of methoxyfenozide on soybeans to control saltmarsh caterpillar, soybean loopers, and armyworms; May 24, 2004 to September 30, 2004. Contact: (Andrew Ertman)

Missouri

Department of Agriculture

Crisis: On June 3, 2004, for the use of sodium chlorate on wheat as a harvest aid. This program ended on June 17, 2004. Contact: (Libby Pemberton)

Specific: EPA authorized the use of fomesafen on snap beans to control broadleaf weeds; May 24, 2004 to September 10, 2004. Contact: (Andrew Ertman)

Montana

Department of Agriculture

Crisis: On May 20, 2004, for the use of diflubenzuron on alfalfa to control grasshoppers. This program is expected to end on September 30, 2004. Contact: (Libby Pemberton)

On May 10, 2004, for the use of sulfentrazone on flax to control kochia. This program ended on June 30, 2004. Contact: (Andrew Ertman)

Specific: EPA authorized the use of tebuconazole on barley and wheat to control Fusarium head blight; April 15, 2004 to July 20, 2004. Contact: (Libby Pemberton)

EPA authorized the use of diflubenzuorn on wheat and barley to control grasshoppers and Morom crickets; April 16, 2004 to July 15, 2004. Contact: (Barbara Madden)

EPA authorized the use of azoxystrobin on safflower to control Alternaria leaf spot; July 1, 2004 to August 15, 2004. Contact: (Libby Pemberton)

Nebraska

Department of Agriculture

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of fomesafen on dry beans to control weeds; June 1, 2004 to July 15, 2004. Contact: (Andrew Ertman)

Nevada

Department of Agriculture

Crisis: On April 22, 2004, for the use of bifenazate on timothy to control banks grass mites. This program is expected to end on September 1, 2004. Contact: (Barbara Madden)

Specific: EPA authorized the use of diflubenzuron on alfalfa to control grasshoppers and Mormon crickets; April 16, 2004 to October 31, 2004. Contact: (Barbara Madden)

New Hampshire

Department of Agriculture

Specific: EPA authorized the use of fenbuconazole on blueberries to control mummyberry disease; April 28, 2004 to August 31, 2004. Contact: (Barbara Madden)

New Jersey

Department of Environmental Protection

Crisis: On April 15, 2004, for the use of fenbuconazole on blueberries to control mummyberry disease. This program ended on June 30, 2004. Contact: (Barbara Madden)

Denial: On April 28, 2004, EPA denied the use of fipronil on potatoes to control wireworms. This request was denied based on the determination that the situation as described in the application does not meet the criteria for an emergency since growers are not likely to experience significant economic losses from wireworm infestations. Further, the Agency also believes that the use of fipronil will not improve the economic conditions facing potato growers because fipronil's performance against wireworms is just as erratic as the registered alternatives and its use will not result in any improvement in yield or quality. Contact: (Barbara Madden).

Specific: EPA authorized the use of coumaphos in beehives to control varroa mites and small hive beetles; April 6, 2004 to February 1, 2005. Contact: (Barbara Madden)

EPA authorized the use of thymol on beehives to control varroa mite; April 13, 2004 to November 8, 2004. Contact: (Stacey Groce)

EPA authorized the use of fenbuconazole on blueberries to control mummyberry disease; April 28, 2004 to June 30, 2004. Contact: (Barbara Madden)

New Mexico

Department of Agriculture

Specific: EPA authorized the use of propiconazole on grain sorghum to control sorghum ergot; April 27, 2004 to September 30, 2004. Contact: (Libby Pemberton)

EPA authorized the use of spinosad on onions to control thrips; June 4, 2004 to November 1, 2004. Contact: (Andrew Ertman)

New York

Department of Environmental Conservation

Specific:

EPA authorized the use of fomesafen on snap beans to control broadleaf weeds; May 5, 2004 to August 31, 2004. Contact: (Andrew Ertman)

EPA authorized the use of desmedipham on red (table) beets to control several broadleaf weeds; May 15, 2004 to August 15, 2004. Contact: (Libby Pemberton)

EPA authorized the use of fomesafen on dry beans to control broadleaf weeds; June 1, 2004 to August 30, 2004. Contact: (Andrew Ertman)

EPA authorized the use of dimethenamid-p on dry bulb onions to control yellow nutsedge and other broadleaf weeds; May 3, 2004 to July 30, 2004. Contact: (Barbara Madden)

North Carolina

Department of Agriculture

Crisis: On May 17, 2004, for the use of s-metolachlor on sweet potatoes to control pigweed. This program ended on July 15, 2004. Contact: (Andrew Ertman)

On June 2, 2004, for the use of bifenthrin on sweet potatoes to control wireworm. This program is expected to end on September 30, 2004. Contact: (Libby Pemberton)

Specific: EPA authorized the use of s-metolachlor on sweet potatoes to control pigweed; June 4, 2004 to July 15, 2004. Contact: (Andrew Ertman)

North Dakota

Department of Agriculture

Quarantine: EPA authorized the use of myclobutanil on soybeans to control soybean rust; effective from the time when soybean rust is introduced to the U.S., to March 1, 2007. Contact: (Andrew Ertman)

EPA authorized the use of propiconazole on soybeans to control soybean rust; from the detection of soybean rust in the continental United States, to March 1, 2007. Contact: (Andrew Ertman)

Specific: EPA authorized the use of coumaphos in beehives to control varroa mites and small hive beetles; April 6, 2004 to February 1, 2005. Contact: (Barbara Madden)

EPA authorized the use of tebuconazole on barley and wheat to control Fusarium head blight; April 15, 2004 to September 1, 2004. Contact: (Libby Pemberton)

EPA authorized the use of tebuconazole on sunflowers to control rust; May 3, 2004 to September 5, 2004. Contact: (Stacey Groce)

EPA authorized the use of fomesafen on dry beans to control ragweed and waterhemp; June 1, 2004 to August 15, 2004. Contact: (Andrew Ertman)

EPA authorized the use of azoxystrobin on safflower to control Alternaria leaf spot; July 1, 2004 to August 15, 2004. Contact: (Libby Pemberton)

EPA authorized the use of diflubenzuron on wheat and barley to control various grasshopper species; June 30, 2004 to July 15, 2004. Contact: (Libby Pemberton)

Ohio

Department of Agriculture

Specific: EPA authorized the use of dimethenamid-p on dry bulb onions to control yellow nutsedge; May 3, 2004 to July 30, 2004. Contact: (Barbara Madden)

EPA authorized the use of sulfentrazone on strawberries to control groundsel; June 3, 2004 to December 15, 2004. Contact: (Andrew Ertman)

Oklahoma

Department of Agriculture

Specific: EPA authorized the use of fomesafen on snap beans to control annual weeds; April 15, 2004 to September 10, 2004. Contact: (Andrew Ertman)

Oregon

Department of Agriculture

Specific: EPA authorized the use of triazamate on true fir Christmas trees to control root aphids; April 13, 2004 to October 31, 2004. Contact: (Barbara Madden)

EPA authorized the use of dimethenamid-p on sugar beets to control hairy nightshade, redroot pigweed, and yellow nutsedge; April 28, 2004 to July 15, 2004. Contact: (Barbara Madden)

EPA authorized the use of mancozeb on ginseng to control alternaria stem and leaf blight and phytophthora leaf blight; May 7, 2004 to August 10, 2004. Contact: (Stacey Groce)

EPA authorized the use of spinosad on onions to control thrips; June 29, 2004 to August 31, 2004. Contact: (Andrew Ertman)

Pennsylvania

Department of Agriculture

Specific: EPA authorized the use of fomesafen on snap beans to control weeds; May 1, 2004 to August 30, 2004. Contact: (Andrew Ertman)

South Dakota

Department of Agriculture

Quarantine: EPA authorized the use of propiconazole on soybeans to control soybean rust; from the detection of soybean rust in the continental United States, to March 1, 2007. Contact: (Andrew Ertman)

Specific: EPA authorized the use of tebuconazole on barley and wheat to control Fusarium head blight; April 15, 2004 to August 31, 2004. Contact: (Libby Pemberton)

Tennessee

Department of Agriculture

Crisis: On May 14, 2004, for the use of sulfentrazone on cowpeas to control Hophornbeam Copperleaf. This program is expected to end on September 30, 2004. Contact: (Andrew Ertman)

Quarantine: EPA authorized the use of myclobutanil on soybeans to control soybean rust; from the detection of soybean rust in the continental United States, to March 1, 2007. Contact: (Andrew Ertman)

EPA authorized the use of propiconazole on soybeans to control soybean rust; From the detection of soybean rust in the continental United States, to March 1, 2007. Contact: (Andrew Ertman)

Specific: EPA authorized the use of sulfentrazone on cowpeas to control Hophornbeam Copperleaf; May 14, 2004 to September 30, 2004. Contact: (Andrew Ertman)

Texas

Department of Agriculture

Crisis: On May 21, 2004, for the use of diuron on bass to control blue green algae. This program is expected to end on November 1, 2004. Contact: (Libby Pemberton)

Specific: EPA authorized the use of propiconazole on grain sorghum to control sorghum ergot; April 27, 2004 to December 31, 2004. Contact: (Libby Pemberton)

Vermont

Department of Agriculture

Specific: EPA authorized the use of fenbuconazole on blueberry to control mummyberry disease; May 12, 2004 to September 1, 2004. Contact: (Stacey Groce)

Virginia

Department of Agriculture and Consumer Services

Denial: On April 28, 2004, EPA denied the use of fipronil on potatoes to control wireworms. This request was denied based on the determination that the situation as described in the application does not meet the criteria for an emergency since growers are not likely to experience significant economic losses from wireworm infestations. Further, the Agency also believes that the use of fipronil will not improve the economic conditions facing potato growers because fipronil's performance against wireworms is just as erratic as the registered alternatives and its use will not result in any improvement in yield or quality. Contact: (Barbara Madden)

Specific: EPA authorized the use of fomesafen on snap beans to control weeds; April 20, 2004 to September 19, 2004. Contact: (Andrew Ertman)

EPA authorized the use of coumaphos in beehives to control varroa mites and small hive beetles; April 14, 2004 to February 1, 2005. Contact: (Barbara Madden)

Washington

Department of Agriculture

Crisis: On June 3, 2004, for the use of diflubenzuron on barley and wheat to control Mormon cricket and grasshoppers. This program ended on July 14, 2004. Contact: (Libby Pemberton)

Specific: EPA authorized the use of triazamate on true fir Christmas trees to control root aphids; April 13, 2004 to October 31, 2004. Contact: (Barbara Madden)

EPA authorized the use of mancozeb on ginseng to control alternaria stem and leaf blight and phytophthora leaf blight; May 7, 2004 to August 10, 2004. Contact: (Stacey Groce)

EPA authorized the use of fenpyroximate on hops to control mites; June 9, 2004 to September 15, 2004. Contact: (Libby Pemberton)

EPA authorized the use of spinosad on onions to control thrips; June 29, 2004 to August 31, 2004. Contact: (Andrew Ertman)

West Virginia

Department of Agriculture

Specific: EPA authorized the use of coumaphos in beehives to control varroa mites and small hive beetles; April 21, 2004 to February 1, 2005. Contact: (Barbara Madden)

Wisconsin

Department of Agriculture, Trade, and Consumer Protection

Crisis: On May 14, 2004, for the use of chlorothalonil on ginseng to control botrytis blight and alternaria leaf and stem blight. This program is expected to end on September 30, 2004. Contact: (Stacey Groce)

On June 30, 2004, for the use of desmedipham on red beets to control various weeds. This program is expected to end on December 31, 2004. Contact: (Libby Pemberton)

Specific: EPA authorized the use of mancozeb on ginseng to control alternaria stem and leaf blight and phytophthora leaf blight; April 30, 2004 to October 15, 2004. Contact: (Stacey Groce)

EPA authorized the use of dimethenamid-p on dry bulb onions to control yellow nutsedge and other broadleaf weeds; May 3, 2004 to July 31, 2004. Contact: (Barbara Madden)

EPA authorized the use of zoxamide on ginseng to control phytophthora leaf blight; May 12, 2004 to October 31, 2004. Contact: (Stacey Groce)

Wyoming

Department of Agriculture

Specific: EPA authorized the use of coumaphos in beehives to control varroa mites and small hive beetles; April 14, 2004 to February 1, 2005. Contact: (Barbara Madden)

EPA authorized the use of lambda-cyhalothrin on barley to control the Russian wheat aphid; April 23, 2004 to July 31, 2004. Contact: (Andrew Ertman)

EPA authorized the use of tetraconazole on sugar beets to control Cercospora leafspot; May 4, 2004 to September 30, 2004. Contact: (Stacey Groce)

B. Federal Departments and Agencies

Interior Department

Fish and Wildlife Service

Quarantine: EPA authorized the use of brodifacoum on the Alaska Maritime National Wildlife Refuge and lands adjacent to the refuge with seabird populations that do not have existing invasive rodent populations to control Norway rats, roof rats and house mice; April 16, 2004, to April 16, 2007. Contact: (Barbara Madden)

List of Subjects

Environmental protection, Pesticides and pest.

Dated: October 27, 2004.
Lois Rossi,
Director, Registration Division, Office of Pesticide Programs.

[FR Doc. 04-25099 Filed 11-9-04; 8:45 am]

BILLING CODE 6560-50-S